DEPARTMENT OF DEFENSE

Office of the Secretary

[Transmittal No. 20-77]

Arms Sales Notification

AGENCY: Defense Security Cooperation Agency, Department of Defense (DoD).

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 20-77 with attached Policy Justification and Sensitivity of Technology.

Dated: December 11, 2020.
Aaron T. Siegel,
Alternate OSD Federal Register Liaison Officer, Department of Defense.

BILLING CODE 5001-06-P

BILLING CODE 5001-06-C

Transmittal No. 20-77

Notice of Proposed Issuance of Letter of Offer Pursuant to Section 36(b)(1) of the Arms Export Control Act, as amended

(i) Prospective Purchaser: Taipei Economic and Cultural Representative Office in the United States (TECRO)

(ii) Total Estimated Value:

Major Defense Equipment * | $357.5 million
Other | $ 78.6 million
TOTAL | $436.1 million

(iii) Description and Quantity or Quantities of Articles or Services under Consideration for Purchase:

Major Defense Equipment (MDE):

Eleven (11) High Mobility Artillery Rocket Systems (HIMARS) M142 Launchers

Sixty-four (64) Army Tactical Missile Systems (ATACMS) M57 Unitary Missiles

Seven (7) M1152Al High Mobility Multipurpose Wheeled Vehicles (HMMWVs)

Eleven (11) M240B Machine Guns, 7.62MM

Seventeen (17) International Field Artillery Tactical Data Systems (IFATDS)

Non-MDE: Also included are fifty-four (54) M28A2 Low Cost Reduced Range Practice Rocket Pods (LCRRPR); eleven (11) M2Al machine guns, .50 caliber; twenty-two (22) AN/NRC-92E dual radio systems; seven (7) AN/NRC-92E dual radio ground stations; fifteen (15) AN/VRC-90E single radio systems; eleven (11) M1084A2 cargo Family of Medium Tactical Vehicles (FMTV) Resupply Vehicles (RSV); two (2) M1089A2 cargo wrecker FMTV RSV; eleven (11) M1095 trailer cargo FMTV, 5-ton; support equipment; communications equipment; spare and repair parts; test sets; laptop computers; training and training equipment; publication; systems integration support; technical data; Stockpile Reliability Program (SRP); Quality Assurance and Technical Assistance Teams; U.S. Government and contractor technical, engineering, and logistics support services; and other related elements of logistical and program support.

(iv) Military Department: Army (TW-B-ZDJ)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: October 21, 2020

* As defined in Section 47(6) of the Arms Export Control Act.

POLICY JUSTIFICATION

Taipei Economic and Cultural Representative Office in the United States (TECRO)—HIMARS, Support, and Equipment

TECRO has requested to buy eleven (11) High Mobility Artillery Rocket Systems (HIMARS) M142 Launchers; sixty-four (64) Army Tactical Missile Systems (ATACMS) M57 Unitary Missiles; seven (7) M1152Al High Mobility Multipurpose Wheeled Vehicles (HMMWVs); eleven (11) M240B Machine Guns, 7.62MM; and seventeen (17) International Field Artillery Tactical Data Systems (IFATDS). Also included are fifty-four (54) M28A2 Low Cost Reduced Range Practice Rocket Pods (LCRRPR); eleven (11) M2Al machine guns, .50 caliber; twenty-two (22) AN/NRC-92E dual radio systems; seven (7) AN/NRC-92E dual radio ground stations; fifteen (15) AN/VRC-90E single radio systems; eleven (11) M1084A2 cargo Family of Medium Tactical Vehicles (FMTV) Resupply Vehicles (RSV); two (2) M1089A2 cargo wrecker FMTV RSV; eleven (11) M1095 trailer cargo FMTV, 5-ton; support equipment; communications equipment; spare and repair parts; test sets; laptop computers; training and training equipment; publication; systems integration support; technical data; Stockpile Reliability Program (SRP): Quality Assurance and Technical Assistance Teams; U.S. Government and contractor technical, engineering, and logistics support services; and other related elements of logistical and program support. The total estimated program cost is $436.1 million.

This proposed sale is consistent with U.S. law and policy as expressed in Public Law 96-8.

This proposed sale serves U.S. national, economic, and security interests by supporting the recipient's continuing efforts to modernize its armed forces and to maintain a credible defensive capability. The proposed sale will help improve the security of the recipient and assist in maintaining political stability, military balance, economic and progress in the region.

The recipient will use this capability as a deterrent to regional threats and to strengthen homeland defense. Acquisition of HIMARS will contribute to the recipient's goal of updating its military capability while further enhancing interoperability with the United States and other allies. The recipient will have no difficulty absorbing these systems into its armed forces.

The proposed sale of this equipment and support will not alter the basic military balance in the region.

The prime contractor will be Lockheed Martin Missile and Fire Control, Grand Prairie, TX. The purchaser typically requests offsets. Any offset agreement will be defined in negotiations between the purchaser and the contractor.

Implementation of this proposed sale will require the assignment of U.S. Government and U.S. contractor representatives in-country; seven (7) U.S. Government and thirteen (13) U.S. contractor representatives for a period of 1 month; two (2) U.S. Government and seven (7) U.S. contractor representatives for a period of two months; and five (5) U.S. contractor representatives for a period of one year.

There will be no adverse impact on U.S. defense readiness as a result of this proposed sale.

Transmittal No. 20-77

Notice of Proposed Issuance of Letter of Offer Pursuant to Section 36(b)(1) of the Arms Export Control Act

Annex

Item No. vii

(vii) Sensitivity of Technology:

1. The M142 High Mobility Artillery Rocket System (HIMARS) is a C-130 transportable wheeled launcher mounted on a 5-ton Family of Medium Tactical Vehicles truck chassis. HIMARS is the modern Army-fielded version of the Multiple Launch Rocket System (MLRS) M270 launcher, and can fire all of the MLRS Family of Munitions (FOM) including Guided Multiple Launch Rocket System (GMLRS) variants and the Army Tactical Missile System (ATACMS). Utilizing the MLRS FOM, the HIMARS can engage targets between 15 and 300 kilometers with GPS-aided precision accuracy.

2. The M57 Army Tactical Missile System (ATACMS)—Unitary is a conventional, semi-ballistic missile that utilizes a 500-pound high explosive warhead. It has an effective range of between 70 and 300 kilometers, and has increased lethality and accuracy over previous versions of the AT ACMS due to a GPS/Precise Position System (PPS) aided navigation system.

3. The International Field Artillery Tactical Data System is the international export version of the Army's Advanced Field Artillery Tactical Data System (AFATDS). It provides networked and fully automated support for the planning, coordination, control, and execution of fires and effects such as mortars, field artillery, rockets and missiles, and close air support. International versions are developed for each customer unique to the weapon and targeting systems in their inventory.

4. The M1152Al High Mobility Multipurpose Wheeled Vehicle (HMMWV) is a two-man wheeled vehicle primarily used for the transport of personnel or as a shelter carrier.

5. The M240B Machine Gun is a family of belt-fed gas-operated medium machine guns that chamber the 7.62x51 mm NATO cartridge. It has been used extensively by the U.S. Army in infantry companies and as a mounted weapon on ground vehicles.

6. The highest level of information required to facilitate sale, training, operation, and maintenance of these systems is classified SECRET.

7. If a technologically advanced adversary were to obtain knowledge of the hardware and software elements, the information could be used to develop countermeasures or equivalent systems, which might reduce system effectiveness or be used in the development of a system with similar or advanced capabilities.

8. A determination has been made that the recipient can provide substantially the same degree of protection for the sensitive technology being released as the U.S. Government. This sale is necessary in furtherance of the U.S. foreign policy and national security objectives outlined in the Policy Justification.

9. All defense articles and services listed in this transmittal have been authorized for release and export to the recipient.

[FR Doc. 2020-27716 Filed 12-16-20; 8:45 am]

BILLING CODE 5001-06-P